DEPARTMENT OF ENERGY

Federal Energy Regulatory Commission

[Docket No. EF03-5032-000, et al.]

United States Department of Energy, et al.; Electric Rate and Corporate Filings

June 27, 2003.

The following filings have been made with the Commission. The filings are listed in ascending order within each docket classification.

1. United States Department of Energy—Western Area Power Administration

[Docket No. EF03-5032-000]

Take notice that on June 5, 2003, the Deputy Secretary of the Department of Energy, by Rate Order No. WAPA-100, did confirm and approve on an interim basis, to be effective on August 1, 2003, the Western Area Power Administration's (Western) extension of existing Rate Schedules UGP-AS1, UGP-AS2, UGP-AS3, UGP-AS4, UGP-AS5, UGP-AS6, UGP-FTP1, UGP-NFTP1, and UGP-NT1 for transmission service on the Pick-Sloan Missouri Basin Program-Eastern Division effective August 1, 2003, and ending September 30, 2005.

The rates in Rate Schedules UGP-AS1, UGP-AS2, UGP-AS3, UGP-AS4, UGP-AS5, UGP-AS6, UGP-FTP1, UGP-NFTP1, and UGP-NT1 will be in effect pending the Commission's approval of the extension of these or of substitute rates on a final basis.

Comment Date: July 18, 2003.

2. Dhofar Generating Company SAOC

[Docket No. EG03-79-000]

Take notice that on June 25, 2003, Dhofar Generating Company SAOC (DGC) with its principal office at P.O. Box 2609, PC 211, Sultanate of Oman, filed with the Federal Energy Regulatory Commission (Commission) an application for determination of exempt wholesale generator status pursuant to part 365 of the Commission's regulations.

DGC is a company organized under the laws of Sultanate of Oman. DGC states that it will be engaged, directly or indirectly through an affiliate as defined in Section 2(a)(11)(B) of the Public Utility Holding Company Act of 1935, exclusively in owning, or both owning and operating an electric generating facility consisting of an approximately 240 MW gross gas-fired electrical plant, located in the Governate of Dhofar, Sultanate of Oman, selling electric energy at wholesale and engaging in project development activities with respect thereto.

Comment Date: July 18, 2003.

3. Power Resource Group, Inc.

[Docket No. EL03-136-000]

Take notice that on June 19, 2003, Power Resource Group, Inc. (PRG) filed a Petition for Enforcement Action and Declaratory Order. PRG petitioned the Commission to undertake an enforcement action against the Public Utility Commission of the State of Texas for its failure to implement the Public Utility Regulatory Policies Act of 1978 (PURPA) in accordance with the requirements of PURPA and the Commission's regulations. PRG requests the Commission to apply Section 210(h)(2)(A) of PURPA to enforce the requirements of Section 210(f) of PURPA in Texas.

Comment Date: July 21, 2003.

4. Ameren Energy Marketing Company

[Docket No. ER01-1945-002]

Take notice that on June 23, 2003, Ameren Energy Marketing Company (AEM) submitted for filing revisions to section 3(a) of its market-based rate schedule, in compliance with the Commission's May 9, 2003 Order in Docket No. ER01-1945-000. AEM asserts that Section 3(a) now states that the Commission must approve AEM's sales of energy, capacity and ancillary services to affiliated entities before such sales are made.

AME states that a copy of this filing was served on all of the parties on the official service list compiled by the Secretary in this docket.

Comment Date: July 14, 2003.

5. Midwest Independent Transmission System Operator, Inc.

[Docket Nos. ER02-111-011 and ER02-652-006]

Take notice that on June 24, 2003, the Midwest Independent Transmission System Operator, Inc. (Midwest ISO) submitted an errata to its June 19, 2003 filing in these proceedings concerning Schedule 10 (ISO Cost Recovery Adder) of the Midwest ISO Open Access Transmission Tariff (OATT), FERC Electric Tariff, Second Revised Volume No. 1, pursuant to Order of the Federal Energy Regulatory Commission, Midwest Independent Transmission System Operator Inc., 103 FERC ¶ 61,205 (2003).

Midwest ISO states that pursuant to the Settlement reached in these proceedings, the Midwest ISO requests an effective date of March 1, 2003.

Midwest ISO has requested waiver of the service requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: July 15, 2003.

6. New England Power Pool and ISO New England

[Docket No. ER02-2330-013]

Take notice that on June 18, 2003, ISO New England Inc., submitted a compliance report on the development of new performance-based standards for determining energy usage as required by the Commission's December 20, 2002 Order in Docket No. ER02-2330-001, et al.

Comment Date: July 18, 2003.

7. California Independent System Operator Corporation

[Docket Nos. ER03-608-001, ER00-2019-008, and ER01-819-003]

Take notice that on June 23, 2003, the California Independent System Operator Corporation (ISO) tendered an information filing in accordance with the Commission's Order of May 30, 2003, 103 FERC ¶ 61,260, in which the Commission acted on an amendment (Amendment No. 49) to the ISO Tariff.

The ISO states that this filing has been served on the Public Utilities Commission of the State of California, the California Energy Commission, the California Electricity Oversight Board, Participating Transmission Owners under the ISO Tariff, all parties with effective Scheduling Coordinator Service Agreements und the ISO Tariff, and to all parties not among the foregoing on the restricted service list in Docket Nos. ER03-608-000, ER00-2019-006, and ER01-819-002. The ISO also states that this filing will be posted on the ISO's Web site at http://www.caiso.com.

Comment Date: July 14, 2003.

8. Power Contract Financing, L.L.C.

[Docket No. ER03-838-001]

Take notice that on June 24, 2003, Power Contract Financing, L.L.C. tendered for filing all currently effective tariff sheets to replace the company's former name CES Marketing, LLC, with the company's current name, to Power Contract Financing, L.L.C.

Comment Date: July 15, 2003.

9. American Electric Power Service Corporation

[Docket No. ER03-979-000]

Take notice that on June 23, 2003, American Electric Power Service Corporation (AEPSC) submitted for filing an amendment to the Interconnection Agreement, dated September 2, 1998 between Central Power and Light Company and South Texas Electric Cooperative, Inc. (STEC) that provides for additional agreements on the parties' construction of transmission facilities related to their existing point of interconnection at the City of Robstown Substation. AEPSC states that other changes have been made to the Interconnection Agreement.

AEPSC seeks an effective date of May 1, 2003 for this amendment to the agreement and waiver of the Commission's notice of filing requirement because there are no related rates or charges.

AEPSC states that it has served copies of the filing on STEC and the Public Utility Commission of Texas.

Comment Date: July 14, 2003

10. PJM Interconnection, L.L.C.

[Docket No. ER03-980-000]

Take notice that on June 23, 2003, PJM Interconnection, L.L.C. (PJM), submitted for filing three interim interconnection service agreements between PJM and PSEG Fossil, L.L.C. PJM requests a waiver of the Commission's 60-day notice requirement to permit the effective date of June 4, 2003 for the agreements.

PJM states that copies of this filing were served upon PSEG Fossil, L.L.C. and the state regulatory commissions within the PJM region.

Comment Date: July 14, 2003.

11. Public Service Company of New Mexico

[Docket No. ER03-981-000]

Take notice that on June 24, 2003, Public Service Company of New Mexico (PNM) submitted for filing an Interim Invoicing Agreement with respect to invoicing for coal deliveries from San Juan Coal Company among PNM, Tucson Electric Power Company (TEP), and the other owners of interests in the San Juan Generating Station covering the period from January 1, 2003 through December 31, 2003. PNM states that the Interim Invoicing Agreement is an appendix to the San Juan Project Participation Agreement (PPA), and effectively modifies the PPA for that same period.

PNM requests waiver of the Commission's notice requirements in order to allow the Interim Invoicing Agreement to be effective as of January 1, 2003. PNM states that copies of the filing have been sent to the New Mexico Public Regulation Commission, TEP, and each of the owners of an interest in the San Juan Generating Station. PNM's also state that the filing is available for public inspection at its offices in Albuquerque, New Mexico.

Comment Date: July 15, 2003.

12. Ameren Services Company

[Docket No. ER03-982-000]

Take notice that on June 25, 2003, Ameren Services Company (ASC) tendered for filing three executed Service Agreements for Firm Point-to-Point Services between ASC and Ameren Energy Marketing Company. ASC asserts that the purpose of the Agreements is to permit ASC to provide transmission services to Ameren Energy Marketing Company pursuant to Ameren's Open Access Transmission Tariff.

Comment Date: July 16, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-17021 Filed 7-3-03; 8:45 am]

BILLING CODE 6717-01-P